DEPARTMENT OF THE INTERIOR

National Park Service

[NPS-WASO-NRNHL-DTS#- 39262; PPWOCRADI0, PCU00RP14.R50000]

National Register of Historic Places; Notification of Pending Nominations and Related Actions

AGENCY: National Park Service, Interior.

ACTION: Notice.

SUMMARY: The National Park Service is soliciting electronic comments on the significance of properties nominated before December 14, 2024, for listing or related actions in the National Register of Historic Places.

DATES: Comments should be submitted electronically by January 10, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 14, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

CALIFORNIA

Inyo County

Ryan Historic District, Address Restricted, Death Valley vicinity, SG100011330

CONNECTICUT

Fairfield County

Waltersville School, 167 Steuben Street, Bridgeport, SG100011334

IDAHO

Washington County

Sunnyside School, (Public School Buildings in Idaho MPS), 446 US-95, Weiser vicinity, MP100011321

MARYLAND

Frederick County

Clemson, Joanna & Dennis D. H., Farm, 14121 Pearre Road, Union Bridge vicinity, SG100011329

Montgomery County

River Road Unitarian Church, 6301 River Road, Bethesda, SG100011323

MICHIGAN

Berrien County

Ferry Street Historic District, 527-801 north side of Ferry Street; 514-814 south side of Ferry Street; 701-815 north side of Sycamore; 323 North 5th Street; 308-410 North Sixth Street; 307-402 North Seventh Street; 307-410 North Eighth Street; and 310 North Ninth Street, Niles, SG100011316

MISSISSIPPI

Hinds County

Whitehead and Lloyd Motor Company, 430 South State Street, Jackson, SG100011332

John R. Lynch Street Civil Rights District, North Side of Green-Gibbs Plaza, 1017 Lynch Street, and 1072 Lynch Street, Jackson, SG100011333

NORTH CAROLINA

Madison County

Marshall High School (Boundary Increase), 115 and 145 Blannahassett, Marshall, BC100011319

SOUTH CAROLINA

Horry County

Atlantic Beach Historic District, Generally bounded by Wiley Drive, 29th Avenue S, 32nd Avenue S, and the Atlantic Ocean, Atlantic Beach, SG100011324

An owner objection received for the following resource(s):

TEXAS

Nueces County

Cayo del Oso Site, Address Restricted, Corpus Christi, SG100011317

An additional documentation has been received for the following resource(s):

NORTH CAROLINA

Madison County

Marshall High School (Additional Documentation), Blannahassett Island. W. side Bridge St., Marshall, AD08000779

NORTH DAKOTA

Bowman County

Schade, Emma Petznick and Otto, House (Additional Documentation), 406 W. Divide, Bowman, AD08000313

Authority: Section 60.13 of 36 CFR part 60.

Sherry A. Frear,
Chief, National Register of Historic Places/National Historic Landmarks Program.

[FR Doc. 2024-30775 Filed 12-23-24; 8:45 am]

BILLING CODE 4312-52-P